DEPARTMENT OF THE TREASURY

Agency Information Collection Activities; Submission for OMB Review; Comment Request; Multiple Internal Revenue Service (IRS) Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 25, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

1. Title: W-2 (Wage and Tax Statement), W-2c (Corrected Wage and Tax Statement), W-2AS (American Samoa Wage and Tax Statement), W-2GU (Guam Wage and Tax Statement), W-2VI (U.S. Virgin Islands Wage and Tax Statement), W-3 (Transmittal of Wage and Tax Statements), W-3c (Transmittal of Corrected Wage and Tax Statements), W-3PR (Informe de Comprobantes de Retención Transmittal of Withholding Statements), W-3c PR (Transmision de Comprobantes de Retención Corregidos, Transmittal of Corrected Wage and Tax Statements), and W-3SS (Transmittal of Wage and Tax Statements).

OMB Number: 1545-0008.

Form Numbers: W-2, W-2c, W-2AS, W-2GU, W-2VI, W-3, W-3PR, W-3c, W-3cPR, and W-3SS.

Abstract: Employers report income and withholding information on Form W-2. Individuals use Form W-2 to prepare their income tax returns. Forms W-2AS, W-2GU and W-2VI are variations of Form W-2 for use in U.S. possessions. The Form W-3 series is used to transmit W-2 series forms to the Social Security Administration. Forms W-2c, W-3c and W-3cPR are used to correct previously filed Forms W-2, W-3, and W-3PR.

Current Actions: There are no material changes in the paperwork burden previously approved by OMB. However, the estimated number of responses has increase based on the number of taxpayers filing the forms.

Type of Review: Extension of a currently approved collection.

Affected Public: Business or other for-profit organizations and individuals, or households, not-for-profit institutions, farms, and Federal, state local or tribal governments.

Estimated Number of Respondents: 301,441,008.

Estimated Time per Respondent: varies.

Estimated Total Annual Burden Hours: 150,594,103.

2. Title: Application to Use LIFO Inventory Method.

OMB Number: 1545-0042.

Form Number: Form 970.

Abstract: Taxpayers file Form 970 to elect to use the last-in, first-out (LIFO) inventory method or to extend the LIFO method to additional goods. The IRS uses Form 970 to determine if the election was properly made. The estimates in this notice are for estates, trusts, and tax-exempt organizations filing Form 970.

Current Actions: There is no change to the existing collection. However, the estimated number of responses was reduced to eliminate duplication of burden estimates. The estimated burden for individuals filing Form 970 is approved under OMB control number 1545-0074, and the estimated burden for businesses filing Form 970 is approved under OMB control number 1545-0123.

Type of Review: Extension of a currently approved collection.

Affected Public: Private sector.

Estimated Number of Responses: 100.

Estimated Time per Respondent: 21 hours, 6 minutes.

Estimated Total Annual Burden Hours: 2,111.

3. Title: Investment Credit.

OMB Number: 1545-0155.

Form Number: 3468.

Abstract: Form 3468 is used to compute Taxpayers' credit against their income tax for certain expenses incurred for their trades or businesses. The information collected is used by the IRS to verify that the credit has been correctly computed.

Current Actions: There are no changes to burden.

Type of Review: Extension of a currently approved collection.

Affected Public: Business or other for-profit organizations.

Estimated Number of Respondents: 2,109.

Estimated Time per Response: 35 hours, 57 minutes.

Estimated Total Annual Burden Hours: 75,107.

4. Title: General Business Credit.

OMB Number: 1545-0895.

Form Number: Form 3800.

Abstract: Internal Revenue Code section 38 permits taxpayers to reduce their income tax liability by the amount of their general business credit, which is an aggregation of their investment credit, work opportunity credit, welfare-to-work credit, alcohol fuel credit, research credit, low-income housing credit, disabled access credit, enhanced oil recovery credit, etc. Form 3800 is used to figure the correct credit.

Current Actions: We have made no changes to Form 3800 at this time.

Type of Review: Extension of a currently approved collection.

Affected Public: Business or other for-profit organizations, farms, and individuals.

Estimated Number of Respondents: 65,000.

Estimated Time per Respondent: 33.38 hours.

Estimated Total Annual Burden Hours: 2,169,700.

5. Title: Reporting Requirements for Recipients of Points Paid on Residential Mortgages and Mortgage Interest Statement.

OMB Number: 1545-1380.

Form Number: Form 1098.

Regulation Project Number: TD 8191 as amended by TD 8507, TD 8571, TD 8734, and TD 9849.

Abstract: Section 6050H provides that an information return must be made by any person who is engaged in a trade or business and who, during that trade or business, receives from any individual $600 or more of interest on any mortgage in a calendar year. Any person required to make an information return under section 6050H also must furnish a statement to the payor of record on or before January 31 of the year following the calendar year in which the interest was received. Form 1098, Mortgage Interest Statement, is used to report mortgage interest (including points) received during the year.

Current Actions: There is an increase in the estimated number of respondents previously approved by OMB. IRS has increased the number of respondents by 16,708,000 based on the projected number of filers from IRS Publication 6961. This update to the agency estimate has increased the burden by 4,187,000 hours.

Type of Review: Revision of a currently approved collection.

Affected Public: Business or other for-profit organizations.

Estimated Number of Respondents: 96,140,044.

Estimated Number of Responses: 97,358,960.

Estimated Time per Respondent: 25 minutes.

Estimated Total Annual Burden Hours: 24,318,656.

6. Title: Improving Customer Experience (OMB Circular A-11, Section 280 (Implementation).

OMB Number: 1545-2290.

Abstract: A modern, streamlined and responsive customer experience means: raising government-wide customer experience to the average of the private sector service industry; developing indicators for high-impact Federal programs to monitor progress towards excellent customer experience and mature digital services; and providing the structure (including increasing transparency) and resources to ensure customer experience is a focal point for agency leadership. This information collection activity provides a means to garner customer and stakeholder feedback in an efficient, timely manner in accordance with the Administration's commitment to improving customer service delivery as discussed in Section 280 of OMB Circular A-11 at https://www.whitehouse.gov/wp-content/uploads/2018/06/s280.pdf.

As discussed in OMB guidance, agencies should identify their highest-impact customer journeys (using customer volume, annual program cost, and/or knowledge of customer priority as weighting factors) and select touchpoints/transactions within those journeys to collect feedback. These results will be used to improve the delivery of Federal services and programs. It will also provide government-wide data on customer experience that can be displayed on www.performance.gov to help build transparency and accountability of Federal programs to the customers they serve.

As a general matter, these information collections will not result in any new system of records containing privacy information and will not ask questions of a sensitive nature, such as sexual behavior and attitudes, religious beliefs, and other matters that are commonly considered private.

The Internal Revenue Service will only submit collections if they meet the following criteria.

• The collections are voluntary;

• The collections are low-burden for respondents (based on considerations of total burden hours or burden-hours per respondent) and are low-cost for both the respondents and the Federal Government;

• The collections are non-controversial and do not raise issues of concern to other Federal agencies;

• Any collection is targeted to the solicitation of opinions from respondents who have experience with the program or may have experience with the program in the near future;

• Personally identifiable information (PII) is collected only to the extent necessary and is not retained;

• Information gathered is intended to be used for general service improvement and program management purposes.

Upon agreement between OMB and the agency all or a subset of information may be released as part of A-11, Section 280 requirements only on performance.gov. Summaries of customer research and user testing activities may be included in public-facing customer journey maps and summaries. Additional release of data must be done coordinated with OMB.

These collections will allow for ongoing, collaborative and actionable communications between the Agency, its customers and stakeholders, and OMB as it monitors agency compliance on Section 280. These responses will inform efforts to improve or maintain the quality of service offered to the public. If this information is not collected, vital feedback from customers and stakeholders on services will be unavailable.

Current Actions: IRS is requesting an increase in the bank of burden hours to cover existing and planned surveys.

Type of Review: Extension of a currently approved collection.

Affected Public: Individuals or households; businesses or other for-profit organizations; not-for-profit institutions; State, local or tribal governments.

Estimated Number of Respondents: 1,011,000.

Estimated Time per Respondent: 9 minutes.

Estimated Total Annual Burden Hours: 150,000.

Title: Advanced Manufacturing Production Credit.

7. OMB Number: 1545-2306.

Form Number: Form 7207.

Abstract: This form is used to claim the advanced manufacturing production credit under section 45x for eligible components produced by the taxpayer and sold during the tax year in the taxpayer's trade or business to an unrelated person.

Current Actions: IRS is revising the form and instructions to include Inflation Reduction Act of 2022 provisions for Tax Year 2024.

Type of Review: Extension of a currently approved collection.

Affected Public: Business or other for-profit organizations.

Estimated Number of Respondents: 1,000.

Estimated Time per Respondent: 3 hours and 56 mins.

Estimated Total Annual Burden Hours: 3,930 hours.

Authority: 44 U.S.C. 3501 et seq.

Melody Braswell,
Treasury PRA Clearance Officer.

[FR Doc. 2023-15822 Filed 7-25-23; 8:45 am]

BILLING CODE 4830-01-P